DEPARTMENT OF VETERANS AFFAIRS

38 CFR Part 9

Servicemembers' Group Life Insurance and Veterans' Group Life Insurance

CFR Correction

This rule is being published by the Office of the Federal Register to correct an editorial or technical error that appeared in the most recent annual revision of the Code of Federal Regulations.

In Title 38 of the Code of Federal Regulations, Parts 0 to 17, revised as of July 1, 2024, in section 9.1, paragraph (k)(2) is reinstated to read as follows:

§ 9.1 Definitions.

* * * * *

(k) * * *

* * * * *

(2) The term does not include any fetus or child extracted for purposes of an abortion.

* * * * *

[FR Doc. 2025-12352 Filed 7-1-25; 8:45 am]

BILLING CODE 0099-10-P